CONSUMER FINANCIAL PROTECTION BUREAU

[Docket No: CFPB-2026-0003]

Privacy Act of 1974; System of Records

AGENCY: Consumer Financial Protection Bureau.

ACTION: Notice of a modified system of records.

SUMMARY: In accordance with the Privacy Act of 1974, as amended, the Consumer Financial Protection Bureau (CFPB or Bureau) proposes to modify a current Privacy Act System of Records titled, “CFPB.019—Nationwide Mortgage Licensing System and Registry.” The system of records allows mortgage loan originators (MLOs) employed by Federal agency regulated institutions to register and submit required information about themselves and their backgrounds in a national registry, and for the administration of the registry.

DATES: Comments must be received no later than February 17, 2026. The modifications to this system of records will be effective February 17, 2026 unless the comments received result in a contrary determination.

ADDRESSES: You may submit comments, identified by the title and docket number (see above Docket No. CFPB-2026-0003), by any of the following methods:

• Federal eRulemaking Portal: http://www.regulations.gov. Follow the instructions for submitting comments. A brief summary of this document will be available at https://www.regulations.gov/docket/CFPB-2026-0003.

• Email: privacy@cfpb.gov. Include Docket No. CFPB-2026-0003 in the subject line of the email.

• Mail/Hand Delivery/Courier: Kathryn Fong, Chief Privacy Officer, Consumer Financial Protection Bureau, 1700 G Street NW, Washington, DC 20552, (202) 435-7058. Because paper mail in the Washington, DC area and at CFPB is subject to delay, commenters are encouraged to submit comments electronically.

All submissions must include the agency name and docket number for this notice. In general, all comments received will be posted without change to http://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, Consumer Financial Protection Bureau, 1700 G Street NW, Washington, DC 20552; (202) 435-7058. If you require this document in an alternative electronic format, please contact CFPB_Accessibility@cfpb.gov. Please do not submit comments to this email box.

SUPPLEMENTARY INFORMATION: In accordance with the Privacy Act of 1974, 5 U.S.C. 552a, the CFPB is modifying a system of records titled, “CFPB.019—Nationwide Mortgage Licensing System and Registry.” The modified system of records described in this notice includes the following changes. First, the purpose of the system is updated to clarify that information is collected and used for the administration of the registry, which includes conducting background investigations on the MLOs and identity verification for users who are designated to perform administrative functions on behalf of the Federal agency regulated institution and employees designated as primary contacts for covered financial institutions. This identity verification process is required by the Department of Justice, Federal Bureau of Investigation for individuals who have access to Criminal History Record Information (CHRI) of MLOs. Second, the updates to the category of individuals include the addition of primary contacts from covered financial institutions; users who are designated to perform administrative functions on behalf of the covered financial institutions; and other individual users from Federal agencies and regulators. Third, the updates to the category of records include additional data elements that are collected from MLOs as part of the registry; the information from users designated to perform administrative functions on behalf of institutions to conduct the identity verification; and basic name and contact information from other users (i.e., from Federal regulators and agencies) of the registry. Institutions employing MLOs are required to be federally registered pursuant to sections 1504 and 1507 of the Secure and Fair Enforcement for Mortgage Licensing Act of 2008 (S.A.F.E. Act), 12 U.S.C. 5103 and 5106. Fourth, the records retention schedule is updated to include the records retention schedule approved for this system of records. Fifth, a new routine use will enable disclosure to the U.S. National Archives and Records Administration (NARA) when engaging in records management inspections pursuant to 44 U.S.C. 2904 and 2906. Finally, the CFPB is making non-substantive revisions to the system of records notice to align with the Office of Management and Budget's recommended model in Circular A-108, appendix II. The report of the revised system of records has been submitted to the Committee on Oversight and Government Reform of the House of Representatives, the Committee on Homeland Security and Governmental Affairs of the Senate, and the Office of Management and Budget, pursuant to Circular A-108, “Federal Agency Responsibilities for Review, Reporting, and Publication under the Privacy Act” (Dec. 2016) and the Privacy Act of 1974, 5 U.S.C. 552a(r).

SYSTEM NAME AND NUMBER:

CFPB.019—Nationwide Mortgage Licensing System and Registry.

SECURITY CLASSIFICATION:

Unclassified.

SYSTEM LOCATION:

Consumer Financial Protection Bureau, 1700 G Street NW, Washington, DC 20552. State Regulatory Registry LLC, 1129 20th Street NW, Washington, DC 20036.

SYSTEM MANAGER(S):

Consumer Financial Protection Bureau, Principal Deputy Assistant Director, Office of Supervision Policy & Operations, Division of Supervision, 1700 G Street NW, Washington, DC 20552; and, State Regulatory Registry LLC, 1129 20th Street NW, Washington, DC 20036.

AUTHORITY FOR MAINTENANCE OF THE SYSTEM:

Secure and Fair Enforcement for Mortgage Licensing Act of 2008 (S.A.F.E. Act), Public Law 110-289, Division A, title V, sections 1501-1517, 122 Stat. 2654, 2810-2824 (July 30, 2008), codified at 12 U.S.C. 5101 et seq., as amended.

PURPOSE(S) OF THE SYSTEM:

The system allows for the registration of MLOs employed by Federal agency regulated institutions in a Nationwide Mortgage Licensing System and Registry (NMLSR), as required by the S.A.F.E. Act. The information is maintained to support Federal regulatory oversight while providing the public with access to certain information concerning MLOs employed by institutions regulated by a Federal banking agency (as defined in section 1503(2) of the S.A.F.E. Act, 12 U.S.C. 5102(2)) or the Farm Credit Administration (FCA), including names and employment histories of those MLOs. It also enables the administration of the registry, to include granting registration to users who are designated to perform administrative functions on behalf of the covered financial institution. Certain information collected in this system is used to conduct appropriate criminal background checks of MLOs, and identification verification of users who are designated to perform administrative functions on behalf of the Federal agency regulated institution and employees designated as primary contacts for covered financial institutions, as required by the S.A.F.E. Act, its implementing regulation, 12 CFR part 1007, and other Federal policies and standards. The information is used for additional administrative purposes to ensure quality control, performance, and improving management processes.

CATEGORIES OF INDIVIDUALS COVERED BY THE SYSTEM:

Individuals covered by this system include: MLOs that are required to be registered under sections 1504 and 1507 of the S.A.F.E. Act, 12 U.S.C. 5103 and 5106, or the S.A.F.E. Act's implementing regulation, 12 CFR part 1007; users who are designated to perform administrative functions on behalf of the covered financial institution under 12 CFR 1007.103(e)(1)(i)(F); employees designated as primary contacts for Federal agency regulated institutions under 12 CFR 1007.103(e)(1)(i)(E); and Bureau employees, contractors, or others, or authorized Federal users.

CATEGORIES OF RECORDS IN THE SYSTEM:

Category of records related to MLOs in this system include names and former or other names used; Social Security numbers; gender; dates and places of birth; home and business contact information (including physical and email addresses); financial services-related employment history for 10 years prior to the date of registration or renewal of a registration; CHRI, including the results of criminal background checks; State license(s) held, status and license numbers, along with any disciplinary actions that have resulted in license revocations and suspensions (submitted in response to criminal, civil, regulatory, and financial services-related disclosure questions, which responses are then verified by State agencies); certain other criminal, civil, regulatory, disciplinary or enforcement actions taken against MLOs, including in connection with their employment in the financial services industry; fingerprint data; and unique identifiers assigned to NMLSR registrant and/or financial institution; copy or photo of government issued identification; and photograph.

Category of records related to the users who are designated to perform administrative functions on behalf of the covered financial institution and employees designated as the primary contact for Federal agency regulated institutions include name; email address; phone number(s); home address; Social Security number; date of birth; copy or photo of government issued identification; and photograph.

Category of records related to other individuals covered by this system include name and contact information, to include phone number and business email address.

RECORD SOURCE CATEGORIES:

Information maintained in this system is obtained from individuals who are required to be registered as MLOs, individuals who are designated to perform administrative functions on behalf of a covered financial institution, employees designated as primary contacts for Federal agency regulated institutions under 12 CFR 1007.103(e)(1)(i)(E); and CFPB employees, contractors, or other authorized Federal users.

ROUTINE USES OF RECORDS MAINTAINED IN THE SYSTEM, INCLUDING CATEGORIES OF USERS AND THE PURPOSES OF SUCH USES:

These records may be disclosed, consistent with the Bureau's Disclosure of Records and Information Rules, promulgated at 12 CFR 1070 et seq., to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm.

(2) Another Federal agency or entity, when the Bureau determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(3) Another Federal or State agency to (a) permit a decision as to access to or amendment or correction of records to be made in consultation with or by that agency, or (b) verify the identity of an individual or the accuracy of information submitted by an individual who has requested access to or amendment or correction of records.

(4) The Executive Office of the President in response to an inquiry from that office made at the request of the subject of a record or a third party on that person's behalf.

(5) Congressional offices in response to an inquiry made at the request of the individual to whom the record pertains.

(6) Contractors, agents, or other authorized individuals performing work on a contract, service, cooperative agreement, job, or other activity on behalf of the Bureau or the U.S. Government and who have a need to access the information in the performance of their mission, including duties or activities.

(7) The Department of Justice (DOJ) for its use in providing legal advice to the Bureau or in representing the Bureau in a proceeding before a court, adjudicative body, or other administrative body, where the use of such information by the DOJ is deemed by the Bureau to be relevant and necessary to the advice or proceeding, and such proceeding names as a party in interest:

a. The CFPB;

b. Any employee of the Bureau in their official capacity;

c. Any employee of the Bureau in their individual capacity where DOJ has agreed to represent the employee; or

d. The United States, where the CFPB determines that litigation is likely to affect the Bureau or any of its components.

(8) A grand jury pursuant either to a Federal or State grand jury subpoena, or to a prosecution request that such record be released for the purpose of its introduction to a grand jury, where the subpoena or request has been specifically approved by a court. In those cases where the Federal Government is not a party to the proceeding, records may be disclosed if a subpoena has been signed by a judge.

(9) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings.

(10) Appropriate agencies, entities, and persons, including but not limited to potential expert witnesses or witnesses in the course of investigations, to the extent necessary to secure information relevant to the investigation.

(11) Appropriate Federal, State, local, foreign, Tribal, or self-regulatory organizations or agencies responsible for investigating, prosecuting, enforcing, implementing, issuing, or carrying out a statute, rule, regulation, order, policy, or license if the information may be relevant to a potential violation of civil or criminal law, rule, regulation, order, policy, or license.

(12) To the NARA or other Federal Government agencies pursuant to records management inspections being conducted under the authority of 44 U.S.C. 2904 and 2906.

(13) Institutions employing MLOs that are required to be federally registered pursuant to sections 1504 and 1507 of the S.A.F.E. Act, 12 U.S.C. 5103 and 5106, or the S.A.F.E. Act's implementing regulation, 12 CFR part 1007, for use in administering registration.

(14) The public when the information relates to the employment history of, and publicly adjudicated disciplinary and enforcement actions against, MLOs that is included in the NMLSR for access by the public in accordance with section 1507 of the S.A.F.E. Act, 12 U.S.C. 5106.

(15) Any Federal banking agency, as defined in section 1503(2) of the S.A.F.E. Act, 12 U.S.C. 5102(2), and the FCA to carry out their oversight responsibilities for MLOs employed by entities subject to their respective authorities.

POLICIES AND PRACTICES FOR STORAGE OF RECORDS:

Records maintained in this system are stored electronically and in paper files.

POLICIES AND PRACTICES FOR RETRIEVAL OF RECORDS:

Records are retrievable by a variety of fields including, but not limited to, an individual MLO or other individual's name or unique identification number; the financial institution's name or unique identification number; or by some combination thereof.

POLICIES AND PRACTICES FOR RETENTION AND DISPOSAL OF RECORDS:

The records collected and maintained within NMLSR will be retained for five years after an individual's or an institution's NMLSR account status becomes inactive in accordance with the applicable CFPB Records Schedule DAA-0587-2021-0001.

ADMINISTRATIVE, TECHNICAL, AND PHYSICAL SAFEGUARDS:

Access to records is restricted to authorized personnel who have been issued non-transferrable access codes and passwords. Individuals who have access to CHRI undergo an identity verification process. Other records are maintained in locked file cabinets or rooms with access limited to those personnel whose official duties require access.

RECORD ACCESS PROCEDURES:

See “Contesting Record Procedures.”

CONTESTING RECORD PROCEDURES:

If assistance is required to access, contest or amend such a record, individuals may contact the NMLS Call Center at (240) 386-4444, or may inquire in writing in accordance with instructions appearing in title 12, chapter 10 of the CFR, “Disclosure of Records and Information.” Address such requests to: Chief Privacy Officer, Consumer Financial Protection Bureau, 1700 G Street NW, Washington, DC 20552.

NOTIFICATION PROCEDURES:

See “Contesting Record Procedures” above.

EXEMPTIONS PROMULGATED FOR THE SYSTEM:

None.

HISTORY:

77 FR 35359 (June 13, 2012); 83 FR 23435 (May 21, 2018).

Kathryn Fong,
Chief Privacy Officer, Consumer Financial Protection Bureau.

[FR Doc. 2026-00704 Filed 1-14-26; 8:45 am]

BILLING CODE 4810-AM-P